DEPARTMENT OF HOMELAND SECURITY

Bureau of Customs and Border Protection

Public Meeting of the Airport and Seaport User Fee Advisory Committee

AGENCY: Customs and Border Protection, Department of Homeland Security.

ACTION: Notice of meeting.

SUMMARY: This document announces the date, time, and location for a public meeting of the Airport and Seaport User Fee Advisory Committee and the agenda for consideration by the Committee. It also invites submission of written statements. In order to be considered for discussion at the meeting, a statement must be received by the Committee at least five days prior to the date of the meeting.

DATES: The 26th meeting of the Airport and Seaport User Fee Advisory Committee will be held on Wednesday, October 22, 2003, at 1 p.m., at the Office of Field Operations, Bureau of Customs and Border Protection, 5th Floor Bridge Conference Room, International Trade Center, 1300 Pennsylvania Avenue, NW., Washington, DC 20229.

FOR FURTHER INFORMATION CONTACT: Cynthia Sargent, Office of Finance, (202) 927-0609; email: cynthia.sargent@dhs.gov.

SUPPLEMENTARY INFORMATION:

Background

The Airport and Seaport User Fee Advisory Committee was created under the authority of 8 U.S.C. 1356(k) (section 286(k) of the Immigration and Nationality Act, as amended; see also the Federal Advisory Committee Act (5 U.S.C.A. App. § 2)) to meet periodically and advise the Attorney General on issues related to the performance of certain inspectional services performed by the Immigration and Naturalization Service (INS). Since the legacy INS inspection component has been merged with the U.S. Customs Service (along with other agencies) to form the Bureau of Customs and Border Protection (CBP), effective on March 1, 2003, the function of the Committee is now under CBP and the Committee now advises the Secretary of Homeland Security.

The Committee consists of representatives of the airline and other transportation industries that are subject to fees and charges authorized by law or proposed by the governing agency (either INS prior to March 1, 2003, or CBP afterward). Matters of consideration by the Committee include time periods during which inspectional services should be performed, number and deployment of inspectional officers, the level of fees, and the appropriateness of any proposed fee. The fees addressed by the Committee are immigration fees and should not to be confused with COBRA fees authorized under 19 U.S.C. 58c.

Generally, the Committee focuses its attention on those subjects that most concern and benefit the travel industry, the traveling public, and CBP. One such subject is the fee charged for immigration inspectional services under 8 U.S.C. 1356(d) (section 286(d) of the Immigration and Nationality Act, as amended). This fee applies to each passenger arriving at a port of entry in the United States, or to the preinspection of a passenger in a place outside the United States prior to arrival in the United States, aboard a commercial aircraft or vessel.

Public Meeting

In accordance with 8 U.S.C. 1356(k), CBP announces that the twenty-sixth meeting of the Airport and Seaport User Fee Advisory Committee will take place at 1 p.m. on October 22, 2003, at CBP Headquarters, Office of Field Operations, 5th Floor Bridge Conference Room, 1300 Pennsylvania Avenue, NW., Washington, DC 20229. The meeting is open to the public, and advance notice of attendance is requested to ensure adequate seating. Persons planning to attend should notify the contact person identified previously in this notice at least five days prior to the meeting. Any interested party may submit a written statement at any time before or after the meeting to the contact person for consideration by the Committee. Written statements received by the contact person at least five days prior to the meeting will be considered for discussion at the meeting.

Meeting Agenda

At this meeting, the Committee is expected to pursue the following agenda (which may be modified prior to the meeting):

1. Introduction of the Committee members;

2. Discussion of administrative issues;

3. Discussion of activities since last meeting;

4. Discussion of specific concerns and questions of Committee members;

5. Discussion of future traffic trends;

6. Discussion of relevant written statements timely submitted by the public in advance of the meeting (as above); and

7. Scheduling of next meeting.

Dated: September 26, 2003.
John E. Eichelberger,
Assistant Commissioner, Office of Finance.

[FR Doc. 03-24845 Filed 9-29-03; 8:45 am]

BILLING CODE 4820-02-P